DEPARTMENT OF TRANSPORTATION

Federal Motor Carrier Safety Administration

[Docket No. FMCSA-2001-9258]

Qualification of Drivers; Exemption Applications; Vision

AGENCY: Federal Motor Carrier Safety Administration (FMCSA), DOT.

ACTION: Notice of applications for exemption from the vision standard; request for comments.

SUMMARY: This notice announces the FMCSA's receipt of applications from 38 individuals for an exemption from the vision requirements in the Federal Motor Carrier Safety Regulations (FMCSRs). If granted, the exemptions will enable these individuals to qualify as drivers of commercial motor vehicles (CMVs) in interstate commerce without meeting the vision standard prescribed in 49 CFR 391.41(b)(10).

DATES: Comments must be received on or before May 3, 2001.

ADDRESSES: Mail or hand deliver comments to the U.S. Department of Transportation, Dockets Management Facility, Room PL-401, 400 Seventh Street, SW., Washington, DC 20590, or submit electronically at http://dmses.dot.gov/submit. All comments received will be available for examination and copying at the above address from 9 a.m. to 5 p.m., e.t., Monday through Friday, except Federal holidays. Those desiring notification of receipt of comments must include a self-addressed, stamped postcard or you may print the acknowledgment page that appears after submitting comments electronically.

FOR FURTHER INFORMATION CONTACT: For information about the vision exemptions in this notice, Ms. Sandra Zywokarte, Office of Bus and Truck Standards and Operations, (202) 366-2987; for information about legal issues related to this notice, Ms. Elaine Walls, Office of the Chief Counsel, (202) 366-1394, FMCSA, Department of Transportation, 400 Seventh Street, SW., Washington, DC 20590. Office hours are from 7:45 a.m. to 4:15 p.m., e.t., Monday through Friday, except Federal holidays.

SUPPLEMENTARY INFORMATION:

Electronic Access

You may see all the comments online through the Document Management System (DMS) at: http://dmses.dot.gov/submit.

Background

Thirty-eight individuals have requested an exemption from the vision requirement in 49 CFR 391.41(b)(10), which applies to drivers of CMVs in interstate commerce. Under 49 U.S.C. 31315 and 31136(e), the FMCSA may grant an exemption for a renewable 2-year period if it finds “such exemption would likely achieve a level of safety that is equivalent to, or greater than, the level that would be achieved absent such exemption.” Accordingly, the agency will evaluate the qualifications of each applicant to determine whether granting the exemptions will achieve the required level of safety.

Qualifications of Applicants

1. Jerry T. Branam

Mr. Branam, 60, has amblyopia in the right eye. His best-corrected visual acuities are 20/200 in the right eye and 20/25 in the left eye. An optometrist examined him in 2000, and stated, “With his previous experience and the above findings [relating to visual acuity and fields of vision], it is my opinion that Mr. Branam has sufficient vision to perform the driving tasks required to operate a commercial vehicle.” Mr. Branam reported that he has operated tractor-trailer combinations for 30 years, and has accumulated 2.4 million miles. He holds a Class D regular license from Tennessee, but held a Class A commercial driver's license (CDL) for the 3-year period prior to his date of application. His driving record for the last 3 years shows no accidents or convictions for moving violations in a CMV.

2. Daniel R. Brewer

Mr. Brewer, age 52, has had amblyopia in his left eye since childhood. His corrected visual acuity is 20/25 in the right eye and 20/200 in the left. Following an examination in 2000, his ophthalmologist stated, “In my opinion, his vision is adequate to perform driving tasks necessary for a commercial vehicle.” Mr. Brewer submitted that he has driven straight trucks for 18 years and 1.0 million miles; and tractor-trailer combinations for 4 years and 280,000 miles. He holds a Class A CDL from the State of Washington, and during the last 3 years, he has had no accidents or convictions for moving violations in a CMV.

3. Brett L. Condon

Mr. Condon, 40, has had no vision in his right eye since birth. His best-corrected visual acuity is 20/20 in the left eye. An ophthalmologist examined him in 2000 and stated, “In my medical opinion Mr. Condon has sufficient vision to operate a commercial vehicle.” According to Mr. Condon's application, he has 24 years of experience driving straight trucks, totaling 300,000 miles; and 18 years of experience driving tractor-trailers, totaling 180,000 miles. He holds a Maryland Class A CDL and has had no accidents or moving violations in a CMV for the past 3 years.

4. Mark W. Coulson

Mr. Coulson, 55, has amblyopia in his left eye. His corrected vision is 20/20 in the right eye and 20/400 in the left eye. Following an examination in 2000, his optometrist concluded, “Mark is able to see to operate a commercial vehicle without glasses.” Mr. Coulson submitted that he has driven straight trucks for 29 years, reaching 725,000 miles. He holds a Class BM CDL from Maryland, and his driving record for the last 3 years shows no accidents or convictions for moving violations in a CMV.

5. Thomas W. Craig

Mr. Craig, 63, is blind in his right eye due to an injury at age 2. The visual acuity in his left eye is 20/20 with correction. After examining him in 2000, his optometrist certified, “In my opinion he has sufficient vision to operate a commercial vehicle.” Mr. Craig reported that he has driven straight trucks for 37 years and 1.8 million miles. He holds a Class B CDL from Tennessee, and his driving record for the last 3 years shows that he has had no accidents or convictions for moving violations in a CMV.

6. Myron D. Dixon

Mr. Dixon, 50, is blind in his right eye due to trauma in 1972. He has no light perception in his right eye, and visual acuity of 20/20 in his left eye. As the result of an examination in 2000, his ophthalmologist concluded, “I feel that he has sufficient vision to perform the driving tasks required to operate a commercial vehicle.” Mr. Dixon reported that he has 15 years and 360,000 miles of experience operating passenger buses. He holds a Class B CDL from Texas, and there are no accidents or convictions for moving violations in a CMV on his driving record for the last 3 years.

7. Terry W. Dooley

Mr. Dooley, 54, has strabismus and amblyopia in his left eye. He had an eye examination in 2000, which revealed best-corrected vision of 20/20 in the right eye and 20/400 vision in the left eye. The examining optometrist concluded, “In my medical opinion, he has sufficient vision to perform the driving tasks required to operate a commercial vehicle.” Mr. Dooley reported that he has operated straight trucks for 30 years, traveling 1.2 million miles, and tractor-trailer combinations for 7 years, traveling 490,000 miles. He holds a Class A CDL from Georgia, and his driving record for the last 3 years shows no accidents or convictions for moving violations in a CMV.

8. James W. Harris

Mr. Harris, 49, has a small central scotoma in the center of his right eye, which occurred in 1997 as a result of a small hemorrhage. His best-corrected visual acuity is 20/150 in the right eye, and 20/30+ in the left eye. His optometrist examined him in 2000, and stated, “It is my opinion, Mr. Harris has sufficient vision to perform the driving tasks required to operate a commercial vehicle.” Mr. Harris submitted that he has driven 2.6 million miles in tractor-trailer combination vehicles over 24 years, and 25,000 miles in straight trucks over one year. He holds a Class A CDL from Texas, and his driving record shows no accidents or convictions for moving violations in a CMV for the last 3 years.

9. Larry M. Hawkins

Mr. Hawkins, 48, is blind in his right eye due to trauma 5 years ago. The visual acuity, corrected, in his left eye is 20/20. In 2000, his optometrist examined him and certified, “In my medical opinion this patient should have sufficient vision to operate a CMV.” Mr. Hawkins reported that he has driven straight trucks for 28 years and 1.1 million miles, and tractor-trailer combinations for 10 years and 400,000 miles. His Class A CDL is from Arizona, and he has had no accidents or convictions for moving violations in a CMV in the last 3 years, according to his driving record.

10. George A. Hoffman III

Mr. Hoffman, 41, has amblyopia in his left eye. His uncorrected visual acuity is 20/15 in the right eye and 20/200 in the left eye. He was examined in 2001 by an optometrist, who stated, “I certify that in my medical opinion, George A. Hoffman III has sufficient vision to perform the driving tasks required to operate a commercial vehicle.” Mr. Hoffman submitted that he has driven straight trucks for 20 years, accumulating 400,000 miles. He holds a Class D driver's license from Florida. His driving record for the last 3 years shows that he had no accidents and was convicted for one moving violation—Failure to Obey Traffic Instructions Sign/Device—in a CMV.

11. Lee P. Holt

Mr. Holt, 33, has a corneal scar in his right eye due to an injury at age 15. His visual acuity is limited to counting fingers in the right eye, not correctable, and 20/20 in the left eye. Following an examination in 2000, his ophthalmologist certified, “Mr. Holt's vision is stable for operating a commercial vehicle.” Mr. Holt reported that he has driven tractor-trailer combinations for 3 years, accumulating 300,000 miles. He holds a Class A CDL from Tennessee. His driving record for the last 3 years shows no accidents and one conviction for a moving violation—Failure to Obey Traffic Instruction—in a CMV.

12. Steve L. Hopkins

Mr. Hopkins, 46, suffered a traumatic retinal tear in his left eye in 1986. His visual acuity is 20/20 in the right eye, and limited to counting fingers in the left eye. Mr. Hopkins was examined in 2000, and his ophthalmologist stated, “In my medical opinion, Steve Hopkins has sufficient vision to perform the driving tasks required to operate a commercial vehicle.” Mr. Hopkins submitted that he has driven tractor-trailer combinations for 3 years, accumulating 75,000 miles. He holds an Idaho Class A CDL, and his driving record for the last 3 years contains no accidents and no convictions for moving violations in a CMV.

13. Donald A. Jahr

Mr. Jahr, 55, has amblyopia in his right eye. His best-corrected visual acuity is 20/70 in the right eye, and 20/20 in the left eye. As a result of a 2000 examination, his optometrist affirmed, “In my opinion, Donald A. Jahr has sufficient vision to perform the driving tasks required to operate a commercial vehicle.” Mr. Jahr reported that he has driven tractor-trailer combination vehicles for 34 years and 5.1 million miles. He holds a Class A CDL from Michigan, and his driving record for the last 3 years shows no accidents or convictions for moving violations in a CMV.

14. Alfred C. Jenkins

Mr. Jenkins, 61, has had a deficit in central vision in his right eye from histoplasmosis since 1961. He sees 20/400, not correctable, with his right eye and 20/20, with correction, with his left eye. An optometrist examined him in 2000 and stated, “I am convinced that his vision is sufficient to allow him to safely operate a commercial vehicle.” Mr. Jenkins reported that he has driven straight trucks 46 years for 460,000 miles, and tractor-trailer combinations 21 years for 1.0 million miles. He holds a Texas Class A CDL, and has had no CMV accidents or convictions for moving violations for the past 3 years.

15. Donald L. Jensen

Mr. Jensen, 52, has amblyopia in his left eye. His best-corrected visual acuities are 20/15 in the right eye, and 20/80+2 in the left eye. An optometrist examined him in 2000 and stated, “I certify that in my medical opinion, Mr. Jensen has more than sufficient vision to perform the driving tasks required to operate a commercial vehicle.” According to Mr. Jensen's application, he has driven 2.7 million miles in tractor-trailer combination vehicles over 27 years. He holds a Class A CDL from South Dakota. In the last 3 years he has had no accidents or convictions for moving violations in a CMV on his driving record.

16. Robert L. Joiner, Jr.

Mr. Joiner, 31, has amblyopia in his left eye. His visual acuity in the right eye is 20/20, and in the left eye, 20/200. An optometrist examined him in 2000, and affirmed, “As the above information indicates, I feel Mr. Joiner has demonstrated sufficient vision to operate a commercial vehicle.” Mr. Joiner stated he has driven tractor-trailer combinations for 6 years, accumulating 186,000 miles. He holds an Illinois Class AM CDL. His official driving record for the last 3 years shows no accidents and no convictions for moving violations in a CMV.

17. James P. Jones

Mr. Jones, 29, received an injury to the left eye at age 5. His visual acuity is 20/20 in the right eye without correction and 20/400 in the left eye with best correction. His ophthalmologist examined him in 2000, and affirmed, “In my medical opinion, he does have adequate vision to safely operate a commercial vehicle and he has demonstrated this by safely doing so for approximately ten years.” Mr. Jones stated that he has driven tractor-trailer combination vehicles for 9 years, accumulating 621,000 miles, and straight trucks for 2 years, accumulating 150,000 miles. He holds a Maine Class A CDL, and he has no accidents or convictions for moving violations on his driving record for the last 3 years.

18. Clarence R. Keller

Mr. Keller, 40, has been blind in his right eye since 1987, due to trauma. The visual acuity is 20/20 in his left eye. An optometrist examined him in 2001, and affirmed, “I do not know the standards for commercial driving, but Mr. Keller is certainly capable of driving a commercial vehicle with his current level of acuity and visual field both day and night under inclement conditions, as would the average person.” Mr. Keller indicated that he has driven straight trucks for 19 years over 1.0 million miles, while he has driven tractor-trailer combinations for 20 years over 600,000 miles. He holds a Class AM CDL from Alabama, and his driving record for the past 3 years shows no accidents or convictions for moving violations in a CMV.

19. Bruce E. King

Mr. King, 33, has amblyopia in his left eye. Best-corrected acuities are 20/15 in the right eye, and 20/60 in the left. As a result of an examination in 2000, his optometrist stated, “I see no reason to deny Mr. King [a] license to drive a commercial vehicle as he has had this condition for nearly all of his life and it does not impair his ability to drive safely.” According to Mr. King's application, he has driven straight trucks for 14 years, accumulating 280,000 miles, and tractor-trailer combinations for 2 years, accumulating 100,000 miles. He holds a Class A CDL from Virginia. In the last 3 years his driving record shows no accidents and one conviction, for speeding, in a CMV. The ticket indicated he was exceeding the speed limit by 11 mph.

20. Larry J. Lang

Mr. Lang, 47, has amblyopia in his right eye. His vision is 20/400 in the right eye, and 20/20, corrected, in the left eye. His optometrist examined him in 2000, and certified, “I believe Mr. Lang has sufficient vision to perform driving tasks required to operate a commercial vehicle.” Mr. Lang reported that he has driven tractor-trailer combinations and straight trucks for 16 years, accumulating 915,000 miles in the former, and 582,000 miles in the later. He holds a Tennessee Class A CDL, and in the last 3 years, he has had no accidents or convictions for moving violations in a CMV.

21. Dennis D. Lesperance

Mr. Lesperance, 51, has amblyopia in his left eye. His best-corrected visual acuities are 20/25 in his right eye, and 20/100 in his left. Following a 2000 examination, his optometrist noted, “This patient has sufficient vision to perform driving tasks required of a commercial vehicle operator.” According to Mr. Lesperance, he has operated straight trucks and tractor-trailer combinations for 25 years, accumulating 250,000 miles for each. A holder of a Class A CDL from Oregon, he has no accidents or citations for moving violations in a CMV for the last 3 years.

22. Ernest W. Lewis

Mr. Lewis, 56, is blind in the left eye due to central artery occlusion in 1997. His best-corrected visual acuity is 20/20 in the right eye. An ophthalmologist examined him in 2000, and affirmed, “In my opinion, this patient has sufficient vision to perform driving tasks required to operate a commercial vehicle.” Mr. Lewis submitted that he has driven tractor-trailer combinations for 24 years and straight trucks for 23 years, accumulating 2.4 million miles and 1.1 million miles, respectively. He holds a Class A CDL from Virginia. His driving record shows that he had no accidents and one conviction for a moving violation—Speeding—in a CMV during the last 3 years. He exceeded the speed limit by 9 mph.

23. John W. Locke

Mr. Locke, 59, has glaucoma in his left eye. His corrected visual acuity is 20/20 in the right eye, and 20/70 in the left. He was examined in 2000, and his ophthalmologist stated, “Based on his binocular visual field, his visual acuity, and the fact that he has apparently been driving safely with this condition since April 1997, it is my medical opinion that Mr. Locke has sufficient vision to operate a commercial vehicle.” In his application, Mr. Locke reported that he has driven tractor-trailer combinations for 16 years, accumulating 3.0 million miles. He holds a Texas Class A CDL, and has no accidents and one conviction for a moving violation—Speeding—in a CMV on his driving record for the past 3 years. His speed was 13 mph over the limit.

24. Herman G. Lovell

Mr. Lovell, 53, has had a chorioretinal scar in his left eye since childhood. The corrected vision in his right eye is 20/20 and in the left eye, 20/200. Following an examination in 2000, his optometrist certified, “In my medical opinion, Mr. Lovell has sufficient vision to perform the driving tasks required to operate a commercial vehicle.” According to his application, Mr. Lovell has operated tractor-trailer combinations for 31 years and 3.7 million miles; straight trucks 6 years and 60,000 miles; and buses 2 years and 1,000 miles. He holds a Class A CDL from Oregon. His driving record for the last 3 years shows one accident and no convictions for moving violations in a CMV. The accident occurred when another vehicle, traveling in the opposite direction, moved into his lane and collided with his truck. The other driver was found to be at fault in the accident, and Mr. Lovell was not cited.

25. Ronald L. Maynard

Mr. Maynard, 48, had surgical removal of his left eye in 1986 because of a malignancy. The uncorrected vision in his right eye is 20/20. His ophthalmologist examined him in 2001, and commented, “The patient's vision appears sufficient to perform commercial vehicle driving tasks considering the long-standing nature of his monocular status. He has excellent vision in his right eye and has had sufficient time to adapt to his monocular status.” Mr. Maynard stated that he has driven tractor-trailer combinations for 10½ years, accumulating 840,000 miles, and straight trucks for 1½ years, accumulating 15,000 miles. He holds a Class A CDL from Texas, and his driving record shows that he has had no accidents or convictions for moving violations in a CMV during the last 3 years.

26. Larry T. Morrison

Mr. Morrison, 47, has amblyopia in his left eye. His vision in the right eye is 20/20, and in the left eye 20/200, not correctable. Following a 2000 examination, his optometrist stated, “Mr. Morrison has sufficient vision to drive a commercial vehicle.” In his application, Mr. Morrison reported that he has driven tractor-trailer combinations for 17 years, accumulating 1.0 million miles. He holds an Alabama Class AM CDL, and has had no accidents and one conviction for a moving violation—Speeding—in a CMV for the past 3 years. He exceeded the speed limit by 12 mph.

27. Gayle G. Olson

Mr. Olson, 67, lost the vision in his left eye due to an arterial occlusion in 1996. His best vision with correction is 20/20 in the right eye. Following an examination in 2000, his optometrist certified, “Gayle has sufficient vision to perform driving tasks required to operate a commercial vehicle.” Mr. Olson submitted that he has driven tractor-trailer combinations for 5.2 million miles over 40 years. He holds a Nebraska Class A CDL, and his official driving record for the last 3 years shows no accidents and no convictions for moving violations in a CMV.

28. Eddie L. Paschal

Mr. Paschal, 62, has strabismus and amblyopia in his left eye. His visual acuity is 20/20 in the right eye, and 20/400 in the left eye. Following an examination in 2000, his optometrist stated, “This is also to certify that in my medical opinion, Mr. Paschal has sufficient vision to perform the driving tasks required to operate a commercial vehicle.” Mr. Paschal submitted that he has driven tractor-trailer combination vehicles for 3 years and 240,000 miles. He holds a Class A CDL from North Carolina, and his driving record shows no accidents and one conviction for a moving violation—Speeding—in a CMV during the last 3 years. He exceeded the speed limit by 14 mph.

29. Richard S. Rehbein

Mr. Rehbein, 41, has a retinal scar in his left eye, resulting from congenital lesions. His best-corrected visual acuities are 20/20 in the right eye and 20/200 in the left eye. His optometrist examined him in 2000, and stated, “In my opinion this [visual condition] will not affect his visual tasks and [he] can operate a commercial vehicle.” Mr. Rehbein submitted that he has driven tractor-trailer combinations for 4 years and 140,000 miles. He holds a Class A license from Minnesota, and his driving record for the last 3 years shows that he had no accidents or convictions for a moving violation in a CMV.

30. David E. Sanders

Mr. Sanders, 36, has amblyopia in his left eye. His best-corrected vision is 20/20 in the right eye and 20/200 in the left. An optometrist examined him in 2000, and affirmed, “This problem [amblyopia] in my professional opinion, should not prevent him from performing the driving tasks required to operate a commercial vehicle.” Mr. Sanders indicated that he has driven straight trucks for 16 years, accumulating 921,000 miles, and tractor-trailer combination vehicles for 4 years, accumulating 200,000 miles. He holds a Class A CDL from North Carolina, and for the last 3 years he has had no accidents or convictions for moving violations in a CMV, according to his driving record.

31. Richard C. Simms

Mr. Simms, 53, has amblyopia in his left eye. His best-corrected visual acuities are 20/20 in the right eye and counting fingers in the left eye. His ophthalmologist examined him in 2000 and stated, “In my opinion his visual function is sufficient to operate a commercial vehicle: any further delay in his certification would be inappropriate.” Mr. Simms reported that he has driven straight trucks for 23 years, accumulating 1.1 million miles, and tractor-trailer combinations for 6 years, accumulating 120,000 miles. He holds a Class A CDL from Nevada, and he has no accidents or convictions for moving violations in a CMV on his driving record for the past three years.

32. David B. Speller

Mr. Speller, 43, has had a macular branch retinal vein occlusion in the right eye since July 1997. His visual acuity is 10/200 in the right eye, and 20/20 in the left eye. His ophthalmologist examined him in 2000, and certified, “In my medical opinion, Mr. Speller has sufficient vision to perform the driving tasks required to operate a commercial vehicle.” In his application, Mr. Speller reported that he has driven tractor-trailer combinations for 21 years, accumulating 1.5 million miles; and straight trucks for 4 years, accumulating 220,000 miles. He holds a Minnesota Class A CDL, and there are no accidents or convictions for moving violations in a CMV on his driving record for the last 3 years.

33. Royal H. Stephens

Mr. Stephens, 55, has had an artificial right eye since 1974. His visual acuity is 20/15 best-corrected in the left eye. Following a 2000 examination, his optometrist stated, “In my medical opinion, Mr. Stephens certainly has sufficient vision to perform the driving tasks required to operate a commercial vehicle.” Mr. Stephens reports that he has operated straight trucks for 25 years, accumulating 750,000 miles. He holds a Georgia Class C driver's license, and he has no accidents or convictions for moving violations in a CMV on his driving record for the last 3 years.

34. Tyson C. Stone

Mr. Stone, 24, has amblyopia in his right eye. His uncorrected visual acuity is 20/150 in his right eye, and 20/25 in his left eye. An optometrist examined him in 2000, and stated, “In my professional opinion, Mr. Stone has the visual skills to safely operate a commercial vehicle.” In his application, Mr. Stone reported that he has driven straight trucks for 3 years, accumulating 30,000 miles. He holds a Utah Class D driver's license. His official driving record for the last 3 years shows no accidents and one conviction for a moving violation—Following Too Closely—in a CMV.

35. Lynn D. Veach

Mr. Veach, 54, has been blind in his left eye since 1958, due to an injury. His visual acuity is 20/15 with correction in the right eye. His optometrist examined him in 2000 and stated, “In my opinion Mr Veach is qualified to operate a commercial vehicle without any restrictions.” In his application, Mr. Veach reported that he has driven tractor-trailer combination vehicles and straight trucks for 35 years, totaling 2.0 million miles and 100,000 miles, respectively. He holds an Iowa Class A CDL, and his driving record for the last 3 years shows no accidents or convictions for moving violations in a CMV.

36. Kevin L. Wickard

Mr. Wickard, 44, has amblyopia in his left eye. His best-corrected vision is 20/20 in the right eye and 20/100 in the left eye. The optometrist who examined him in 2000 stated, “The vision in Mr. Wickard's right eye is sufficient to perform the driving tasks required to operate a commercial vehicle.” Mr. Wickard submitted that he has 22 years of experience driving tractor-trailer combinations for a total of 1.6 million miles; and 4 years of experience driving straight trucks for a total of 80,000 miles. He holds a Class A CDL from Pennsylvania, and for the last 3 years he has no accidents or convictions for moving violations in a CMV on his driving record.

37. Charles M. Wilkins

Mr. Wilkins, 47, has had amblyopia of the right eye and nystagmus since childhood. His best-corrected visual acuities are 20/40 in the right eye, and 20/25 in the left eye. In 2000 his optometrist examined him and affirmed, “[The nearsightedness and nystagmus] have not presented him any problems in his driving or in performing his driving tasks for a commercial vehicle in all of the years that I have seen him. I do not anticipate that these will cause problems for him in his current position.” Mr. Wilkins submitted that he has 28 years of experience driving tractor-trailer combinations over 2.1 million miles. He holds a Class A CDL from Indiana, and his driving record for the last 3 years has no accidents or convictions for a moving violation in a CMV.

38. Michael C. Wines

Mr. Wines, 42, has a chorioretinal scar in his left eye, due to an injury in 1971. He is able to see 20/20 with his right eye with correction, and 20/200 with his left eye. His ophthalmologist examined him in 2000, and stated, “In my medical opinion, Mr. Wines has sufficient vision to perform the driving tasks required to operate a commercial vehicle as long as he has mirrors on both sides of the vehicle.” Mr. Wines reported that he has driven straight trucks for 17 years and 59,000 miles. He holds a Maryland Class BM CDL, and he has no accidents or convictions for moving violations in a CMV on his driving record for the last 3 years.

Request for Comments

In accordance with 49 U.S.C. 31315 and 31136(e), the FMCSA is requesting public comment from all interested persons on the exemption petitions and the matters discussed in this notice. All comments received before the close of business on the closing date indicated above will be considered and will be available for examination in the docket room at the above address. Comments received after the closing date will be filed in the docket and will be considered to the extent practicable, but the FMCSA may publish in the Federal Register a notice of final determination at any time after the close of the comment period. Interested persons should continue to examine the docket for new material.

Authority: 49 U.S.C. 322, 31136 and 31315; and 49 CFR 1.73.

Issued on March 27, 2001.
Stephen E. Barber,
Acting Deputy Administrator.

[FR Doc. 01-8176 Filed 4-2-01; 8:45 am]

BILLING CODE 4910-EX-P